DEPARTMENT OF DEFENSE

Department of the Navy

Notice of Intent to Grant Exclusive Patent Licenses to Cummins Industries, Inc.

AGENCY: Department of the Navy, DOD.

ACTION: Notice.

SUMMARY: The Department of the Navy hereby gives notice of a prospective license to Cummins Industries, Inc. to the Government-owned inventions described in U.S. Patent No. 5,760,089 entitled, “Chemical Warfare Agent Decontaminant Solution Using Quaternary Ammonium Complexes,” dated issued: June 2, 1998.

DATE: Anyone wishing to object to the grant of this license must file written objections along with supporting evidence, if any, not later than January 16, 2001.

ADDRESS: Written objections are to be filed with the Office of Patent Counsel, Naval Surface Warfare Center, Dahlgren Laboratory, CD222, 17320 Dahlgren Road, Dahlgren, VA 22448-5100, telephone (540) 653-8061.

FOR FURTHER INFORMATION CONTACT: James B. Bechtel, Esq., Patent Counsel, Naval Surface Warfare Center, Dahlgren Laboratory, Code CD222, telephone: (540) 653-8061, fax: (540) 653-7816, or email: BechtelJB@nswc.navy.mil.

(Authority: 35 U.S.C. 207, 37 CFR Part 404).
Dated: November 7, 2000.
J.L. Roth,
Lieutenant Commander, Judge Advocate General's Corps, U.S. Navy, Federal Register Liaison Officer.

[FR Doc. 00-29478 Filed 11-16-00; 8:45 am]

BILLING CODE 3810-FF-U